DEPARTMENT OF THE INTERIOR

Fish and Wildlife Service

Notice of Availability of Environmental Assessment and Finding of No Significant Impact for Issuance of Incidental Take Permits to Gulf Highlands LLC and Fort Morgan Paradise Joint Venture on Privately Owned Lands in Alabama

AGENCY: Fish and Wildlife Service, Interior.

ACTION: Notice of availability.

We, the U.S. Fish and Wildlife Service (Service), announce our intent to issue incidental take permits to Gulf Highlands LLC and Fort Morgan Paradise Joint Venture (Applicants) for residential development in Alabama, pursuant to Section 10(a)(1)(B) of the Endangered Species Act of 1973, as amended (Act). The authorized take would be incidental to otherwise lawful activities, including construction of residential condominiums, commercial facilities, and recreational amenities on adjoining tracts of land owned by the Applicants. The proposed action includes implementation of the Habitat Conservation Plan (HCP) jointly developed by the Applicants, as required by Section 10(a)(2)(B) of the Act, to minimize and mitigate for incidental take of the Federally-listed, endangered Alabama beach mouse (Peromyscus polionotus ammobates)(ABM), the endangered Kemp's ridley sea turtle (Lepidochelys kempii), the threatened green sea turtle (Chelonia mydas), and the threatened loggerhead sea turtle (Caretta caretta). The subject permits would authorize take of ABM and the three sea turtles along 2,844 linear feet of coastal dune habitat fronting the Gulf of Mexico in Baldwin County, Alabama.

We published a notice in the Federal Register (66 FR 54020) on October 25, 2001 and again on December 28, 2001 (66 FR 67290) that these applications had been filed with the Service. At that time, we had not determined whether the proposed issuance of the permits would comprise a major Federal action. Following completion of our environmental review and consideration of public comments received, the Service has now determined that issuance of the incidental take permits would not be a major Federal action significantly affecting the quality of the human environment within the meaning of Section 102(2)(C) of the National Environmental Policy Act of 1969, as amended (NEPA). The Service has prepared a Finding of No Significant Impact (FONSI) based on the EA and public comment. This notice is provided pursuant to Section 10 of the Act.

We have evaluated the issuance of section 10(a)(1)(B) permits under section 7 of the Act by conducting an intra-Service section 7 consultation. We have determined that issuance of the permits will not jeopardize the continued existence of the affected species. We have presented this determination in the biological opinion prepared in our analysis of the incidental take permit applications.

We have evaluated whether the proposed permits would meet the issuance criteria established by section 10(a)(2)(B) of the Act. We have determined, and outlined in our Set of Findings, that the incidental take permit applications meet these criteria for issuance.

Copies of the FONSI, biological opinion, and Set of Findings have been forwarded to those people and groups who commented in response to our previous public notices. Copies of these documents are also available to those who have not commented on these applications before (see ADDRESSES below). Final permit issuance will occur no sooner than April 19, 2002.

ADDRESSES: Persons wishing to receive the application, HCP, EA, FONSI, biological opinion, and set of findings may obtain an electronic copy on compact disk by writing, telephoning, or e-mailing the Service's Southeast Regional Office, Atlanta, Georgia (see CONTACTS below). Documents will also be available for public inspection by appointment during normal business hours at the Regional Office, 1875 Century Boulevard, Suite 200, Atlanta, Georgia 30345 (Attn: Endangered Species Permits), Ecological Services Field Office, 1208-B Main Street, Daphne, Alabama 36526, or Bon Secour National Wildlife Refuge, 12295 State Highway 180, Gulf Shores, Alabama 35603. Please reference permit numbers TE007985-0 and TE031307-0 in requests for the documents discussed herein.

FOR FURTHER INFORMATION CONTACT: Mr. David Dell, Regional HCP Coordinator, (see ADDRESSES above), telephone: 404/679-7313, facsimile: 404/679-7081, e-mail: david_dell@fws.gov; or Ms. Celeste South, Fish and Wildlife Biologist, Daphne Field Office, Alabama (see ADDRESSES above), telephone: 251/441-5181.

Dated: March 29, 2002.
Cynthia K. Dohner,
Acting Regional Director.

[FR Doc. 02-8491 Filed 4-8-02; 8:45 am]

BILLING CODE 4310-55-P